DEPARTMENT OF ENERGY

Federal Energy Regulatory Commission

Notice of Effectiveness of Exempt Wholesale Generator Status

Poseidon Solar, LLC | EG20-1-000
IP Athos, LLC | EG20-2-000
IP Athos, II, LLC | EG20-3-000
KeyCon Operating, LLC | EG20-4-000
Keystone Operating, LLC | EG20-5-000
Conemaugh Operating, LLC | EG20-6-000
Willow Creek Wind, LLC | EG20-7-000
Plum Creek Wind, LLC | EG20-8-000
Reading Wind Energy, LLC | EG20-9-000
Cardinal Point LLC | EG20-10-000
2W Permian Solar, LLC | EG20-11-000
Twiggs County Solar, LLC | EG20-12-000
KCE TX 2, LLC | EG20-13-000
KCE TX 8, LLC | EG20-14-000
KCE TX 7, LLC | EG20-15-000
Amadeus Wind, LLC | EG20-16-000
Skookumchuck Wind Energy Project, LLC | EG20-17-000
Impact Solar 1, LLC | EG20-18-000
Sun Streams, LLC | EG20-19-000
Sunshine Valley Solar, LLC | EG20-20-000
Emmons-Logan Wind Interconnection, LLC | EG20-21-000]

Take notice that during the month of December 2019, the status of the above-captioned entities as Exempt Wholesale Generators became effective by operation of the Commission's regulations. 18 CFR 366.7(a) (2019).

Dated: January 15, 2020.
Nathaniel J. Davis, Sr.,
Deputy Secretary.

[FR Doc. 2020-00961 Filed 1-21-20; 8:45 am]

BILLING CODE 6717-01-P